DEPARTMENT OF THE INTERIOR

Bureau of Land Management

[MT-LLMTC03000-L13200000EL0000 NDM 97633]

Notice of Competitive Coal Lease Sale, North Dakota

AGENCY: Bureau of Land Management, Interior.

ACTION: Notice of Competitive Coal Lease Sale.

SUMMARY: Notice is hereby given that the coal reserves in the lands described below in Oliver County, North Dakota, will be offered for competitive lease by sealed bid in accordance with the provisions of the Mineral Leasing Act of 1920.

DATES: The lease sale will be held at 11 a.m. on October 15, 2009. Sealed bids must be submitted on or before 10 a.m. October 15, 2009.

ADDRESSES: The lease sale will be held in the 920 Conference Room of the Bureau of Land Management (BLM) Montana State Office, 5001 Southgate Drive, Billings, Montana 59101-4669. Sealed bids must be submitted to the Cashier, BLM Montana State Office, at the address given above.

FOR FURTHER INFORMATION CONTACT: Robert Giovanini, Mining Engineer, at 406-896-5084 or Connie Schaff, Land Law Examiner, at 406-896-5060.

SUPPLEMENTARY INFORMATION: This sale is being held in response to a lease by application (LBA) filed by The BNI Coal, Ltd. The Federal coal reserves to be offered consist of all recoverable reserves in the following described lands:

T. 142 N., R. 84 W., 5th P. M.

Sec. 32: N½NW¼, SW¼NW¼, NW¼SW¼.

The 160-acre tract, located in Oliver County, North Dakota, contains an estimated 3.0 million tons of recoverable coal reserves. The tract averages 10.0 feet in thickness with an average overburden depth of 75 feet, 6,669 BTU per pound in heating value, 7.75 percent ash, and 0.88 percent sulfur content.

The tract will be leased to the qualified bidder of the highest cash amount provided that the high bid meets or exceeds the BLM's estimate of the fair market value of the tract. The minimum bid for the tract is $100 per acre or fraction thereof. The minimum bid is not intended to represent fair market value. The fair market value will be determined by the authorized officer after the sale.

The sealed bids should be sent by certified mail, return-receipt requested, or be hand delivered to the Cashier, BLM Montana State Office, at the address given above and clearly marked “Sealed Bid for NDM 97633 Coal Sale—Not to be opened before 11 a.m. October 15, 2009.” The cashier will issue a receipt for each hand-delivered bid. Bids received after 10 a.m. will not be considered. If identical high bids are received, the tying high bidders will be requested to submit follow-up sealed bids until a high bid is received. All tie-breaking sealed-bids must be submitted within 15 minutes following the sale official's announcement at the sale that identical high bids have been received. Prior to lease issuance, the high bidder, if other than the applicant, must pay to the BLM the cost recovery fees in the amount of $21,756 in addition to all processing costs the BLM incurs after the date of this sale notice (43 CFR 3473.2).

A lease issued as a result of this offering will provide for payment of an annual rental of $3 per acre, or fraction thereof, and a royalty payable to the United States of 12.5 percent of the value of coal mined by surface methods and 8.0 percent of the value of coal mined by underground methods. Bidding instructions for the tracts offered and the terms and conditions of the proposed coal lease are included in the Detailed Statement of Lease Sale. Copies of the statement and the proposed coal lease are available at the Montana State Office. Casefile NDM 97633 is also available for public inspection at the Montana State Office.

Phillip C. Perlewitz,
Chief, Branch of Solid Minerals.

[FR Doc. E9-21663 Filed 9-8-09; 8:45 am]

BILLING CODE 4310-DN-P